DEPARTMENT OF ENERGY

Federal Energy Regulatory Commission

Combined Notice of Filings #1

Take notice that the Commission received the following electric corporate filings:

Docket Numbers: EC10-51-003.

Applicants: T. Rowe Price Group, Inc.

Description: T. Rowe Price Group, Inc., et al. submits Request for Reauthorization and Extension of Blanket Authorizations to Acquire and Dispose of Securities under Section 203 of the Federal Power Act.

Filed Date: 4/4/19.

Accession Number: 20190404-5143.

Comments Due: 5 p.m. ET 4/25/19.

Docket Numbers: EC19-18-000.

Applicants: Entergy Services, LLC, Entergy Arkansas, Inc., Entergy Louisiana, LLC, Entergy Mississippi, Inc., Entergy New Orleans, LLC, Entergy Texas, Inc.

Description: Response to March 14, 2019 Deficiency Letter, et al. of Entergy Services, LLC on behalf of itself and affiliated Entergy Operating Companies.

Filed Date: 4/3/19.

Accession Number: 20190403-5111.

Comments Due: 5 p.m. ET 4/24/19.

Docket Numbers: EC19-71-000.

Applicants: PPL Electric Utilities Corporation.

Description: Supplement to March 25, 2019 Application for Authorization Under Section 203 of the Federal Power Act of PPL Electric Utilities Corporation.

Filed Date: 4/3/19.

Accession Number: 20190403-5105.

Comments Due: 5 p.m. ET 4/15/19.

Docket Numbers: EC19-74-000.

Applicants: Entergy Texas, Inc.

Description: Joint Application for Authorization Under Section 203 of the Federal Power Act of Entergy Texas, LLC.

Filed Date: 4/4/19.

Accession Number: 20190404-5140.

Comments Due: 5 p.m. ET 4/25/19.

Docket Numbers: EC19-75-000.

Applicants: Osceola Windpower II, LLC, Endeavor Wind II, LLC.

Description: Application for Authorization Under Section 203 of the Federal Power Act, et al. of Osceola Windpower II, LLC, et. al.

Filed Date: 4/4/19.

Accession Number: 20190404-5161.

Comments Due: 5 p.m. ET 4/25/19.

Take notice that the Commission received the following electric rate filings:

Docket Numbers: ER14-225-005.

Applicants: New Brunswick Energy Marketing Corporation.

Description: Notice of Non-Material Change in Status of New Brunswick Energy Marketing Corporation.

Filed Date: 4/4/19.

Accession Number: 20190404-5155.

Comments Due: 5 p.m. ET 4/25/19.

Docket Numbers: ER19-836-003.

Applicants: El Paso Electric Company.

Description: Tariff Amendment: Service Agreement No. 315, EDF PTP to be effective 5/18/2019.

Filed Date: 4/4/19.

Accession Number: 20190404-5069.

Comments Due: 5 p.m. ET 4/25/19.

Docket Numbers: ER19-1014-001.

Applicants: Midcontinent Independent System Operator, Inc., Ameren Illinois Company.

Description: Tariff Amendment: 2019-04-04_SA 3244 Ameren Illinois-Marathon CPA (Heath Substation) Amendment to be effective 1/8/2019.

Filed Date: 4/4/19.

Accession Number: 20190404-5105.

Comments Due: 5 p.m. ET 4/25/19.

Docket Numbers: ER19-1517-000.

Applicants: Shoreham Solar Commons Holdings LLC.

Description: Tariff Cancellation: Notice of Cancellation of Market-Based Rate Tariff to be effective 6/4/2019.

Filed Date: 4/4/19.

Accession Number: 20190404-5036.

Comments Due: 5 p.m. ET 4/25/19.

Docket Numbers: ER19-1518-000.

Applicants: PJM Interconnection, L.L.C.

Description: § 205(d) Rate Filing: Original ICSA, SA No. 4950; Queue No. AB2-089 to be effective 2/12/2018.

Filed Date: 4/4/19.

Accession Number: 20190404-5038.

Comments Due: 5 p.m. ET 4/25/19.

Docket Numbers: ER19-1519-000.

Applicants: Midcontinent Independent System Operator, Inc.

Description: § 205(d) Rate Filing: 2019-04-04_SA 1524 I&M-NIPSCO Interconnection Agreement 2nd Rev to be effective 12/3/2018.

Filed Date: 4/4/19.

Accession Number: 20190404-5039.

Comments Due: 5 p.m. ET 4/25/19.

Docket Numbers: ER19-1520-000.

Applicants: Sunflower Electric Power Corporation, Southwest Power Pool, Inc.

Description: § 205(d) Rate Filing: Sunflower and Mid-Kansas Formula Rate Revisions to Modify Depreciation Rates to be effective 1/1/2018.

Filed Date: 4/4/19.

Accession Number: 20190404-5053.

Comments Due: 5 p.m. ET 4/25/19.

Docket Numbers: ER19-1521-000.

Applicants: PJM Interconnection, L.L.C.

Description: § 205(d) Rate Filing: Amendment to WMPA SA No. 3355; Queue No. W3-044 to be effective 2/4/2014.

Filed Date: 4/4/19.

Accession Number: 20190404-5058.

Comments Due: 5 p.m. ET 4/25/19.

Docket Numbers: ER19-1522-000.

Applicants: Alabama Power Company.

Description: § 205(d) Rate Filing: Kruger Energy Crawford LGIA Filing to be effective 3/28/2019.

Filed Date: 4/4/19.

Accession Number: 20190404-5088.

Comments Due: 5 p.m. ET 4/25/19.

Docket Numbers: ER19-1523-000.

Applicants: AEP Texas Inc.

Description: § 205(d) Rate Filing: AEPTX-Taygete Energy Project Interconnection Agreement First Amend & Restated to be effective 3/13/2019.

Filed Date: 4/4/19.

Accession Number: 20190404-5142.

Comments Due: 5 p.m. ET 4/25/19.

Docket Numbers: ER19-1524-000.

Applicants: Northern Indiana Public Service Company.

Description: § 205(d) Rate Filing: Filing of a CIAC Agreement to be effective 4/5/2019.

Filed Date: 4/4/19.

Accession Number: 20190404-5145.

Comments Due: 5 p.m. ET 4/25/19.

Docket Numbers: ER19-1525-000.

Applicants: AEP Texas Inc.

Description: § 205(d) Rate Filing: AEPTX-Taylor EC-Golden Spread EC IA Third Amend & Restated to be effective 3/13/2019.

Filed Date: 4/4/19.

Accession Number: 20190404-5154.

Comments Due: 5 p.m. ET 4/25/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2019.
Nathaniel J. Davis, Sr.,
Deputy Secretary.

[FR Doc. 2019-07086 Filed 4-9-19; 8:45 am]

BILLING CODE 6717-01-P